DEPARTMENT OF DEFENSE

Department of the Navy

Meeting of the Board of Visitors of Marine Corps University

AGENCY: Department of the Navy, DoD.

ACTION: Notice of open meeting.

SUMMARY: The Board of Visitors of the Marine Corps University (BOV MCU) will meet to review, develop, and provide recommendations on all aspects of the academic and administrative policies of the University; examine all aspects of professional military education operations; and provide such oversight and advice, as is necessary, to facilitate high educational standards and cost-effective operations. The Board will be focusing primarily on the University's Expeditionary Warfare School. All sessions of the meeting will be open to the public.

DATES: The meeting will be held on Wednesday, November 29, 2006, from 8 a.m. to 4 p.m. and on Thursday, November 30, 2006, from 8 a.m. to 11:30 a.m.

ADDRESSES: The meeting will be held at the Expeditionary Warfare School Director's Conference Room. The address is: Expeditionary Warfare School, 2077 Geiger Road, Quantico, Virginia 22134.

FOR FURTHER INFORMATION CONTACT: Mary Lanzillotta, Executive Secretary, Marine Corps University Board of Visitors, 2076 South Street, Quantico, Virginia 22134, telephone number 703-784-4037.

Dated: October 19, 2006.
M.A. Harvison,
Lieutenant Commander, Judge Advocate General's Corps, U.S. Navy, Federal Register Liaison Officer.

[FR Doc. E6-19141 Filed 11-13-06; 8:45 am]

BILLING CODE 3810-FF-P